DEPARTMENT OF THE INTERIOR

National Park Service

[NPS-WASO-NRNHL-DTS#-26889; PPWOCRADI0, PCU00RP14.R50000]

National Register of Historic Places; Notification of Pending Nominations and Related Actions

AGENCY: National Park Service, Interior.

ACTION: Notice.

SUMMARY: The National Park Service is soliciting comments on the significance of properties nominated before October 27, 2018, for listing or related actions in the National Register of Historic Places.

DATES: Comments should be submitted by December 3, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 27, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALASKA

Anchorage Borough

Block 13 Army Housing Association Historic District, E 10th & 11th Aves., Barrow & Cordova Sts., Anchorage, SG100003171

CONNECTICUT

Middlesex County

Higganum Landing Historic District, 40-68 Landing Rd., 2-14 Landing Rd. S, Haddam, SG100003206

DISTRICT OF COLUMBIA

District of Columbia

MacFarland Junior High School, (Public School Buildings of Washington, DC MPS), 4400 Iowa Ave. NW, Washington, MP100003212

Roosevelt, Theodore, Senior High School, (Public School Buildings of Washington, DC MPS), 4301 13th St. NW, Washington, MP100003213

GEORGIA

Fulton County

B. Mifflin Hood Brick Company Building, 686 Greenwood Ave. NE, Atlanta, SG100003173

House at 690 South Boulevard, 690 S Boulevard, Atlanta, SG100003174

IDAHO

Latah County

Campbell, Harry and Fern, House, 101 E 4th St., Troy, SG100003175

INDIANA

Carroll County

Carroll County Infirmary, (County Homes of Indiana MPS), 6409 W 100 North, Delphi vicinity, MP100003177

Clark County

Pleasant Ridge Historic District, (Residential Planning and Development in Indiana, 1940-1973 MPS), Roughly between Hampton Ct., Marcy, Audubon & Thompson Sts., Winthrop, & Kenwood Aves., Halcyon & Ridge Rds., Charlestown, MP100003178

Clinton County

Parkview Home of Clinton County, (County Homes of Indiana MPS), 1501 Burlington Ave., Frankfort vicinity, MP100003179

Grant County

First Presbyterian Church, 216 W 6th St., Marion, SG100003184

Hamilton County

Westfield Historic District, Roughly bounded by Camilla Ct., Penn, Walnut & Park Sts., Westfield, SG100003180

Hendricks County

Hendricks County Poor Asylum, (County Homes of Indiana MPS), 865 E Main St., Danville vicinity, MP100003181

Howard County

Howard Masonic Temple, 316 N Washington St., Kokomo, SG100003182

Knox County

Knox County Poor Asylum, (County Homes of Indiana MPS), 2008 S Hart Street Rd., Vincennes vicinity, MP100003183

Monroe County

Breezy Point Farm Historic District, 8000 W Sand College Rd., Gosport vicinity, SG100003185

Carter—Randall—Parker House, 3636 S Rogers St., Bloomington vicinity, SG100003186

Putnam County

Roachdale Historic District, Roughly bounded by Washington, Main, Grove & Indiana Sts., Roachdale, SG100003187

Randolph County

Randolph County Infirmary, (County Homes of Indiana MPS), 1882 S US 27, Winchester vicinity, MP100003188

St. Joseph County

South Bend City Cemetery, 214 N Elm St., South Bend, SG100003189

Tippecanoe County

Peirce, Oliver Webster Jr., and Catherine House, 538 S 7th St., Lafayette, SG100003190

LOUISIANA

Jefferson Parish

Kirby—Adam House, (Louisiana Coastal Vernacular: Grand Isle 1780-1968 MPS), 142B Community Ln., Grand Isle, MP100003192

Poche House, (Louisiana Coastal Vernacular: Grand Isle 1780-1968 MPS), 102 Community Ln., Grand Isle, MP100003193

Robin House, (Louisiana Coastal Vernacular: Grand Isle 1780-1968 MPS), 176 Coulon Riguard Rd., Grand Isle, MP100003194

United States Coast Guard Station No. 79, (Louisiana Coastal Vernacular: Grand Isle 1780-1968 MPS), 170 Ludwig Ln., Grand Isle, MP100003195

MICHIGAN

Presque Isle County

CHOCTAW (shipwreck), Address Restricted, Presque Isle Township vicinity, SG100003214

Sanilac County

Cadillac House, 5502 Main St., Lexington, SG100003216

MONTANA

Silver Bow County

Shaffer's Chapel African Methodist Episcopal Church, 602 S Idaho, Butte, SG100003199

NEVADA

White Pine County

Lund Grade School, (School Buildings in Nevada MPS), 30 W Center St., Lund, MP100003200

NEW JERSEY

Camden County

Newton Union Burial Ground, Lynne & Collings Aves., Haddon Township, SG100003201

St. Bartholomew Roman Catholic Church, 751 Kaighn Ave., Camden, SG100003202

Monmouth County

McLeod—Rice House, 900 Leonardville Rd., Middletown Township, SG100003203

NORTH DAKOTA

Billings County

De Mores Memorial Park, (Federal Relief Construction in North Dakota, 1931-1943, MPS), SE corner of Main St. & 3rd Ave., Medora, MP100003204

OHIO

Greene County

Wickersham House, 23 E Washington St., Jamestown, SG100003208

Lucas County

Ontario Building, 713-717 Jefferson Ave., Toledo, SG100003209

Muskingum County

Glenn, John, Boyhood Home, 72 Main St., New Concord, SG100003210

Stark County

Timken Vocational High School, 521 Tuscarawas St. W, Canton, SG100003211

Additional documentation has been received for the following resource:

GEORGIA

Glynn County

Brunswick Old Town Historic District, Roughly bounded by 1st, Bay, New Bay, H and Cochran Sts., Brunswick, AD79000727

Nomination submitted by Federal Preservation Officers:

The State Historic Preservation Officer reviewed the following nomination and responded to the Federal Preservation Officer within 45 days of receipt of the nomination and supports listing the property in the National Register of Historic Places.

GEORGIA

Laurens County

Dublin Veterans Administration Hospital, (United States Third Generation Veterans Hospitals, 1946-1958 MPS), 1826 Veterans Blvd., Dublin, MP100003205

Authority: Section 60.13 of 36 CFR part 60

Dated: October 26, 2018.
Christopher Hetzel,
Acting Chief, National Register of Historic Places/National Historic Landmarks Program.

[FR Doc. 2018-25035 Filed 11-15-18; 8:45 am]

BILLING CODE 4312-52-P